DEPARTMENT OF LABOR

Employment and Training Administration

[TA-W-62,630]

Llink Technologies, LLC, Brown City, MI; Notice of Revised Determination on Reconsideration

On March 11, 2008, the Department issued an Affirmative Determination Regarding Application on Reconsideration applicable to workers and former workers of the subject firm. The notice was published in the Federal Register on March 21, 2008 (73 FR 15216).

The previous investigation initiated on January 3, 2008, resulted in a negative determination issued on January 29, 2008, was based on the finding that imports of interior trim automotive components and subassemblies did not contribute importantly to worker separations at the subject firm and no shift in production to a foreign source occurred. The denial notice was published in the Federal Register on February 13, 2008 (73 FR 8370).

In the request for reconsideration, the petitioner provided additional information regarding the subject firm's declining customers.

The Department contacted a company official and requested an additional list of declining customers. Based on new information, the Department further conducted a survey of major declining customers regarding purchases of interior trim automotive components during 2006, 2007 and January through February 2008 over the corresponding 2007 period. The survey revealed that a major declining customer increased their imports of interior trim automotive components from 2006 to 2007 and during January through February of 2008 over the corresponding 2007 period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Llink Technologies, LLC, Brown City, Michigan, contributed importantly to the declines in sales or production and to the total or partial separation of workers at the subject firm. In accordance with the provisions of the Act, I make the following certification:

All workers of Llink Technologies, LLC, Brown City, Michigan, who became totally or partially separated from employment on or after January 2, 2007, through two years from the date of this certification, are eligible to apply for adjustment assistance under Section 223 of the Trade Act of 1974, and are eligible to apply for alternative trade adjustment assistance under Section 246 of the Trade Act of 1974.

Signed in Washington, DC this 4th day of April 2008.
Elliott S. Kushner,
Certifying Officer, Division of Trade Adjustment Assistance.

[FR Doc. E8-7744 Filed 4-10-08; 8:45 am]

BILLING CODE 4510-FN-P